DEPARTMENT OF TRANSPORTATION

Federal Aviation Administration

14 CFR Part 39

[Docket No. FAA-2019-0021; Product Identifier 2018-NM-038-AD]

RIN 2120-AA64

Airworthiness Directives; AmSafe Inc. Seatbelts

AGENCY: Federal Aviation Administration (FAA), DOT.

ACTION: Proposed rule; withdrawal.

SUMMARY: The FAA is withdrawing a notice of proposed rulemaking (NPRM) that proposed to adopt a new airworthiness directive (AD) that would have applied to all AmSafe Inc. seatbelts, as installed in, but not limited to, various airplanes and rotorcraft. The NPRM was prompted by reports of multiple failed keepers on seatbelt hook assemblies. The NPRM would have required an inspection for affected parts, repetitive general visual inspections of the seatbelt hook assembly for damage, repetitive functional checks, and replacement of all affected parts. Since issuance of the NPRM, the FAA has determined that a significant portion of the affected seatbelt hook assemblies have been replaced. The FAA has also determined that the majority of the affected parts have exceeded their typical replacement cycle and are likely no longer in service. The FAA performed a new risk assessment based on this data and determined there is now an acceptable level of risk. Accordingly, the NPRM is withdrawn.

DATES: The FAA is withdrawing the proposed rule published February 22, 2019 (84 FR 5620), as of July 30, 2019.

ADDRESSES:

Examining the AD Docket

You may examine the AD docket on the internet at http://www.regulations.gov by searching for and locating Docket No. FAA-2019-0021; or in person at Docket Operations between 9 a.m. and 5 p.m., Monday through Friday, except Federal holidays. The AD docket contains this AD action, the regulatory evaluation, any comments received, and other information. The street address for Docket Operations (telephone 800-647-5527) is U.S. Department of Transportation, Docket Operations, M-30, West Building Ground Floor, Room W12-140, 1200 New Jersey Avenue SE, Washington, DC 20590.

FOR FURTHER INFORMATION CONTACT: Patrick Farina, Aerospace Engineer, Cabin Safety and Environmental Systems Section, FAA, Los Angeles ACO Branch, 3960 Paramount Boulevard, Lakewood, CA 90712-4137; phone: 562-627-5344; fax: 562-627-5210; email: Patrick.Farina@faa.gov.

SUPPLEMENTARY INFORMATION:

Discussion

The FAA issued an NPRM that proposed to amend 14 CFR part 39 by adding an AD that would apply to the specified products. The NPRM was published in the Federal Register on February 22, 2019 (84 FR 5620). The NPRM was prompted by reports of multiple failed keepers on seatbelt hook assemblies.

The NPRM proposed to require an inspection for affected parts, repetitive general visual inspections of the seatbelt hook assembly for damage, repetitive functional checks, and replacement of all affected parts. The proposed actions were intended to address failed keepers on seatbelt hook assemblies, and remove the risk of future failures by a timed removal. Failure of keepers on seatbelt hook assemblies, if not addressed, could result in the seatbelt disengaging from and detaching from the seat structure under certain conditions, and could result in injury to passengers or flightcrew.

Actions Since the NPRM Was Issued

Since issuance of the NPRM, the FAA has determined that at least 31 percent of the affected seatbelt hook assemblies have been replaced. The FAA has also determined that the majority of the affected parts have exceeded their typical replacement cycle and are likely no longer in service. The FAA performed a new risk assessment based on this data and determined there is now an acceptable level of risk. The FAA has also determined that the remaining parts will eventually be replaced as specified in the applicable component maintenance manual (CMM), which will eliminate the risk. Therefore, the FAA has determined that AD action is not appropriate.

Withdrawal of the NPRM constitutes only such action and does not preclude the FAA from further rulemaking on this issue, nor does it commit the FAA to any course of action in the future.

Comments

The FAA gave the public the opportunity to comment on the NPRM. The following presents the comments received on the NPRM and the FAA's response to each comment.

Support for the NPRM

The Air Line Pilots Association, International (ALPA), Dominic Savino, and FedEx indicated their support for the NPRM.

Request To Withdraw the NPRM

AmSafe requested that the FAA withdraw the NPRM. The commenter suggested that the proposed AD is overly broad and unnecessary based on the number of affected parts in service. AmSafe stated that it has confirmed the return or replacement of 67,000 affected parts, or 31 percent of the total affected parts. AmSafe further noted that the majority of the affected seatbelts not already collected by AmSafe were placed in service five to eight years ago and are likely no longer in service, based on an industry average three year replacement cycle for seatbelts. AmSafe added that it is in the process of replacing almost 4,500 affected parts for Japan Airlines and it has confirmed that all affected parts on Alaska Airlines and KLM Royal Dutch Airlines aircraft have been replaced. AmSafe further added that American Airlines has reported having only one airplane with affected parts, and none of those parts were observed to be damaged. AmSafe observed that these operators represent the largest users of the affected parts in the industry. AmSafe stated that the failure of a keeper itself will not result in injury to passengers or flightcrew. AmSafe added that the potential for injury exists only under accident conditions where the hook is not properly restrained. AmSafe also suggested that the data used to support the proposed AD incorrectly assumes a higher rate of damaged parts than really exist, because the damaged parts have been found only in cases where the keeper is located above the seat cushion. AmSafe requested that the FAA perform a new risk analysis based on the data it provided. AmSafe suggested that it could report additional replacements or findings of damaged units to the FAA as they become available. AmSafe concluded that the NPRM was no longer needed and should be withdrawn.

The FAA agrees with the commenter's request. Based on the data AmSafe provided, the FAA performed a new risk assessment. This new assessment has allowed the agency to determine that the unsafe condition has been reduced to represent an acceptable risk. The FAA also expects the remaining risk to be eliminated as the affected parts are replaced.

FAA's Conclusions

Upon further consideration, the FAA has determined that the NPRM is unnecessary. Accordingly, the NPRM is withdrawn.

Regulatory Findings

Since this action only withdraws an NPRM, it is neither a proposed nor a final rule. This action therefore is not covered under Executive Order 12866, the Regulatory Flexibility Act, or DOT Regulatory Policies and Procedures (44 FR 11034, February 26, 1979).

List of Subjects in 14 CFR Part 39

Air transportation, Aircraft, Aviation safety, Incorporation by reference, Safety.

The Withdrawal

Accordingly, the notice of proposed rulemaking, Docket No. FAA-2019-0021, which was published in the Federal Register on February 22, 2019 (84 FR 5620), is withdrawn.

Issued in Des Moines, Washington, on July 23, 2019.
Dionne Palermo,
Acting Director, System Oversight Division, Aircraft Certification Service.

[FR Doc. 2019-16127 Filed 7-29-19; 8:45 am]

BILLING CODE 4910-13-P